DEPARTMENT OF THE TREASURY

Internal Revenue Service

Open Meeting of the Ad Hoc Issue Committee of the Taxpayer Advocacy Panel

AGENCY: Internal Revenue Service (IRS) Treasury.

ACTION: Notice.

SUMMARY: An open meeting of the Ad Hoc Issue Committee of the Taxpayer Advocacy Panel will be conducted in Washington, DC. The Taxpayer Advocacy Panel is soliciting public comments, ideas and suggestions on improving customer service at the Internal Revenue Service.

DATES: The meeting will be held June 15, June 16 and June 17, 2006.

FOR FURTHER INFORMATION CONTACT: Inez De Jesus at 1-888-912-1227, or 954-423-7977.

SUPPLEMENTARY INFORMATION: Notice is hereby given pursuant to section 10(a) (2) of the Federal Advisory Committee Act, 5 U.S.C. App. (1988) that an open meeting of the Ad Hoc Issue Committee of the Taxpayer Advocacy Panel will be held in Washington, DC. Thursday, June 15, 2006, from 1:30 p.m. to 5 p.m. ET, Friday, June 16, 2006 from 8 a.m. to 5 p.m. ET and Saturday, June 17, 2006, from 8 a.m. to 12 p.m. ET. Individual comments will be limited to 5 minutes. If you would like to have the TAP consider a written statement, please call 1-888-912-1227 or 954-423-7977, or write Inez De Jesus, TAP Office, 1000 South Pine Island Road, Suite 340, Plantation, FL 33324. Due to limited conference space, notification of intent to participate in the meeting must be made with Inez De Jesus. Ms. De Jesus can be reached at 1-888-912-1227 or 954-423-7977.

The agenda will include various IRS issues.

Dated: May 15, 2006.
John Fay,
Acting Director, Taxpayer Advocacy Panel.

[FR Doc. E6-7623 Filed 5-18-06; 8:45 am]

BILLING CODE 4830-01-P